DEPARTMENT OF HEALTH AND HUMAN SERVICES

Centers for Disease Control and Prevention

[30Day-17-17ABU]

Agency Forms Undergoing Paperwork Reduction Act Review

In accordance with the Paperwork Reduction Act of 1995, the Centers for Disease Control and Prevention (CDC) has submitted the information collection request titled Zika Reproductive Health Call-Back Survey (ZRHCS), Puerto Rico, 2017 to the Office of Management and Budget (OMB) for review and approval. CDC previously published a “Proposed Data Collection Submitted for Public Comment and Recommendations” notice on April 27, 2017 to obtain comments from the public and affected agencies. CDC received one general comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW., Washington, DC 20503 or by fax to (202) 395-5806. Provide written comments within 30 days of notice publication.

Proposed Project

Zika Reproductive Health Call-Back Survey (ZRHCS), Puerto Rico, 2017—New—National Center for Chronic Disease Prevention and Health Promotion (NCCDPHP), Centers for Disease Control and Prevention (CDC).

Background and Brief Description

In May 2015, the World Health Organization reported the first local mosquito born transmission of Zika virus in the Western Hemisphere, with autochthonous cases identified in Brazil. In response to the Zika virus outbreak, and evidence that Zika virus infection during pregnancy is a cause microcephaly and other adverse pregnancy and infant outcomes, CDC activated its Emergency Operations Center to its highest level on February 8, 2016 and continues to engage in Zika virus operations.

To date, Puerto Rico has reported the highest number of Zika virus cases of any area within the United States, with the Puerto Rico Department of Health (PRDH) reporting more than 40,000 cases of Zika virus infection, including 3,757 cases in pregnant women. Given the adverse pregnancy and birth outcomes associated with Zika virus infection during pregnancy and the current lack of a vaccine, it is important for women who are at risk of becoming pregnant unintentionally, or who are planning a pregnancy, to be knowledgeable about the potential outcomes of Zika virus infection. In addition, it is important for them to practice effective pregnancy prevention behaviors when they do not desire pregnancy and to prevent mosquito-borne and sexual transmission of Zika virus.

This is a request for a new information collection. CDC requests one additional year of clearance to continue the Emergency information collection, “Emergency Zika Package: Zika Reproductive Health Survey, Puerto Rico, 2017,” approved by the Office of Management and Budget (OMB) in July 2017 (OMB Control Number 0920-1188).

The objective of this assessment is to collect current information on various aspects of Zika knowledge and prevention behaviors from a representative sample of adult women in Puerto Rico. Information will be collected on the following topics: (1) Knowledge of and adherence to mosquito prevention strategies, and (2) use of condoms to minimize the risk of sexual transmission of Zika, and (3) behaviors practiced by women who wish to avoid or delay pregnancies that help them prevent unintended pregnancies that might otherwise be affected by Zika. CDC will rapidly summarize and analyze the information collected for the Puerto Rico Department of Health to determine the need for further refinements in educational messaging and allocation of resources, as established during the first season of the Zika outbreak. There is no cost to respondents other than the time to participate. The total estimated annual burden hours are 117.

Estimated Annualized Burden Hours
Type of respondents | Form name | Number of respondents | Number of responses per respondent | Average burden per response (in hours)
Women aged 18-49 years who completed the main PR-BRFSS survey | Recruitment text | 645 | 1 | 1/60
Women aged 18-49 years who completed the main PR-BRFSS survey agree to participate in the call-back survey | Call-back Survey and Consent | 581 | 1 | 10/60
PR-BRFSS Coordinators | Data Submission Layout | 1 | 3 | 3

Leroy A. Richardson,
Chief, Information Collection Review Office, Office of Scientific Integrity, Office of the Associate Director for Science, Office of the Director, Centers for Disease Control and Prevention.

[FR Doc. 2017-19957 Filed 9-19-17; 8:45 am]

BILLING CODE 4163-18-P